COMMISSION ON CIVIL RIGHTS

Agendas and Notices of Public Meetings of the Maine Advisory Committee

AGENCY: Commission on Civil Rights.

ACTION: Announcement of public meetings.

SUMMARY: Notice is hereby given, pursuant to the provisions of the rules and regulations of the U.S. Commission on Civil Rights (Commission), and the Federal Advisory Committee Act (FACA), that the Maine Advisory Committee to the Commission will hold virtual monthly meetings for transcript and report discussion on the following Thursdays at 12 p.m. (ET): January 12, February 9, March 9, and April 13, 2023.

DATES:

• Second Thursdays at 12 p.m. Eastern Time: January 12, February 9, March 9, and April 13, 2023.

• January 12, 2023, Thursday; 12 p.m.-1 p.m. ET.

Zoom Link (audio and video): https://tinyurl.com/5yr4dspy; password: USCCR-ME.

If Joining by Phone Only: dial 1-551-285-1373; Meeting ID: 161 655 9331#.

FOR FURTHER INFORMATION CONTACT: Mallory Trachtenberg at mtrachtenberg@usccr.gov or via phone at 202-809-9618.

SUPPLEMENTARY INFORMATION: These meetings are available to the public through the Zoom link above. If joining only via phone, callers can expect to incur charges for calls they initiate over wireless lines, and the Commission will not refund any incurred charges. Individuals who are deaf, deafblind and hard of hearing. may also follow the proceedings by first calling the Federal Relay Service at 1-800-877-8339 and providing the Service with the call-in number found through registering at the web link provided for these meetings.

Members of the public are entitled to make comments during the open period at the end of the meetings. Members of the public may also submit written comments; the comments must be received in the Regional Programs Unit within 30 days following the meeting. Written comments may be emailed to Mallory Trachtenberg at mtrachtenberg@usccr.gov. Persons who desire additional information may contact Mallory Trachtenberg at (202) 809-9618. Records and documents discussed during the meetings will be available for public viewing as they become available at www.facadatabase.gov. Persons interested in the work of this advisory committee are advised to go to the Commission's website, www.usccr.gov, or to contact the Regional Programs Unit at the above phone number or email address.

Business Meeting Agendas

Thursdays at 12 p.m. in 2023: 1/12, 2/9, 3/9, and 4/13

I. Welcome & Roll Call

II. Discussion: Briefing Transcripts

V. Public Comment

VI. Adjournment

Dated: January 4, 2023.
David Mussatt,
Supervisory Chief, Regional Programs Unit.

[FR Doc. 2023-00227 Filed 1-9-23; 8:45 am]

BILLING CODE P